DEPARTMENT OF ENERGY

Federal Energy Regulatory Commission

[Project No. 12096-001]

Green River 5 Associates; Notice of Surrender of Preliminary Permit

May 8, 2003.

Take notice that Green River 5 Associates, permittee for the proposed Green River Dam 5 Project, has requested that its preliminary permit be terminated. The permit was issued on November 26, 2001, and would have expired on October 31, 2004. The project would have been located on the Green River in Butler County, Kentucky.

The permittee filed the request on April 7, 2003, and the preliminary permit for Project No. 12096 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Magalie R. Salas,
Secretary.

[FR Doc. 03-12010 Filed 5-13-03; 8:45 am]

BILLING CODE 6717-01-P